INTERNATIONAL TRADE COMMISSION

[Investigation No. TR-5003-1]

Textiles and Apparel: Effects of Special Rules for Haiti on Trade Markets and Industries

AGENCY: United States International Trade Commission.

ACTION: Institution of investigation and scheduling of hearing.

SUMMARY: Pursuant to section 5003 of the Tax Relief and Health Care Act of 2006, signed by the President on December 20, 2006 (Public Law 109-432), the Commission instituted investigation No. TR-5003-1, Textiles and Apparel: Effects of Special Rules for Haiti on Trade Markets and Industries, for the purpose of submitting a report to Congress on the effects of the amendments made by the act on the trade markets and industries, involving textile and apparel articles, of Haiti, the countries described in clauses (ii) and (iii) of section 213A(b)(2)(C) of the Caribbean Basin Economic Recovery Act (as added by section 5002 of this Act), and the United States.

DATES:

October 23, 2007: Deadline for filing requests to appear at the public hearing.

October 25, 2007: Deadline for filing pre-hearing briefs and statements.

November 8, 2007, 9:30 am: Public hearing.

February 7, 2008: Deadline for written statements, including any post-hearing briefs.

June 20, 2008: Deadline for transmittal of Commission report to Congress.

ADDRESSES: All Commission offices, including the Commission's hearing rooms, are located in the United States International Trade Commission Building, 500 E Street SW., Washington, DC. All written submissions, including requests to appear at the hearing, statements, and briefs, should be addressed to the Secretary, United States International Trade Commission, 500 E Street SW., Washington, DC 20436. The public record for this investigation may be viewed on the Commission's electronic docket (EDIS) at http://edis.usitc.gov.

FOR FURTHER INFORMATION CONTACT: Information specific to this investigation may be obtained from Project Leaders William Deese (202-205-2626; william.deese@usitc.gov) and Russell Duncan (202-708-4727; russell.duncan@usitc.gov). For information on the legal aspects of these investigations, contact William Gearhart of the Office of the General Counsel (202-205-3091; william.gearhart@usitc.gov). The media should contact Margaret O'Laughlin of the Office of External Relations (202-205-1819; margaret.olaughlin@usitc.gov). General information concerning the Commission may also be obtained by accessing its Internet server (http://www.usitc.gov). Hearing-impaired individuals may obtain information on this matter by contacting the Commission's TDD terminal on 202-205-1810. Persons with mobility impairments who will need special assistance in gaining access to the Commission should contact the Office of the Secretary at 202-205-2000.

Background: Title V of the Tax Relief and Health Care Act of 2006 (TRHCA), which may also be cited as the Haitian Hemispheric Opportunity through Partnership Encouragement Act of 2006, provides certain trade benefits for Haiti. These benefits are set forth in section 5002 of the TRHCA in the form of an amendment to the Caribbean Basin Economic Recovery Act (CBERA) (19 U.S.C. 2701 et seq.) that adds a new section 213A entitled “Special Rules for Haiti.” Section 5003 of TRHCA directs the Commission to submit a report to Congress on the effects of the amendments made by the act on the trade markets and industries, involving textile and apparel articles, of Haiti, the countries described in clauses (ii) and (iii) of section 213A(b)(2)(C) of CBERA (as added by section 5002 of this Act), and the United States. The Commission must provide its report to Congress by June 20, 2008.

Public Hearing: A public hearing in connection with the investigation will be held at the U.S. International Trade Commission Building, 500 E Street SW., Washington, DC beginning at 9:30 a.m. on November 8, 2007. Requests to appear at the public hearing should be filed with the Secretary no later than 5:15 p.m., October 23, 2007, in accordance with the requirements in the “Submissions” section below. In the event that, as of the close of business on October 23, 2007, no witnesses are scheduled to appear at the hearing, the hearing will be canceled. Any person interested in attending the hearing as an observer or non-participant may call the Secretary (202-205-2000) after October 24, 2007, to determine whether the hearing will be held.

Statements and Briefs: In lieu of or in addition to participating in the hearing, interested parties are invited to submit written statements or briefs concerning the investigation in accordance with the requirements in the “Submissions” section below. Any pre-hearing briefs or statements should be filed not later than 5:15 p.m., October 25, 2007. The deadline for filing any other written statements, including post-hearing briefs or statements, is the close of business on February 7, 2008.

Submissions: All written submissions, including requests to appear at the hearing, statements, and briefs, should be addressed to the Secretary to the Commission and must conform with the provisions of section 201.8 of the Commission's Rules of Practice and Procedure (19 CFR 201.8). Section 201.8 of the rules requires that a signed original (or a copy designated as an original) and fourteen (14) copies of each document be filed. In the event that confidential treatment of the document is requested, at least four (4) additional copies must be filed, in which the confidential information must be deleted (see the following paragraph for further information regarding confidential business information). The Commission's rules do not authorize filing submissions with the Secretary by facsimile or electronic means, except to the extent permitted by section 201.8 of the Commission's Rules (19 CFR 201.8) (see Handbook for Electronic Filing Procedures, http://www.usitc.gov/secretary/fed_reg_notices/rules/documents/handbook_on_electronic_filing.pdf). Persons with questions regarding electronic filing should contact the Secretary (202-205-2000 or edis@usitc.gov).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available in the Office of the Secretary to the Commission for inspection by interested parties.

The Commission does not intend to include any confidential business or national security confidential information in the report it sends to the Congress. Accordingly, any confidential business information received by the Commission in this investigation and used in preparing the report will not be published in a manner that would reveal the operations of the firm supplying the information.

Issued: February 6, 2007.
By order of the Commission.
Marilyn R. Abbott,
Secretary to the Commission.

[FR Doc. E7-2197 Filed 2-8-07; 8:45 am]

BILLING CODE 7020-02-P